COMMITTEE FOR PURCHASE FROM PEOPLE WHO ARE BLIND OR SEVERELY DISABLED

Procurement List Additions

AGENCY: Committee for Purchase From People Who Are Blind or Severely Disabled.

ACTION: Additions to Procurement List.

SUMMARY: This action adds to the Procurement List products and a service to be furnished by nonprofit agencies employing persons who are blind or have other severe disabilities.

EFFECTIVE DATE: November 9, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On January 24 and August 8, 2003, the Committee for Purchase From People Who Are Blind or Severely Disabled published notice (68 FR 3508, and 47292) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Product/NSN: CD Cases, Slim

7045-00-NIB-0179—Clear

7045-00-NIB-0180—Color

NPA: Wiscraft Inc.—Wisconsin Enterprises for the Blind, Milwaukee, Wisconsin

Contract Activity: Office Supplies & Paper Products Acquisition Center, New York, New York

Product/NSN: Full Spectrum Battle Equipment (FSBE)

Basic Shooter's Kit/8415-00-NSH-0691

Platoon Kit A/8415-00-NSH-0692

Platoon Kit B/8415-00-NSH-0768

Basic Shooter's Kit B/8415-00-NSH-0769

Platoon Kit C/8415-00-NSH-0770

Basic Shooter's Kit C/8415-00-NSH-0771

NPA: Chautauqua County Chapter, NYSARC, Jamestown, New York

Contract Activity: U.S. Army Robert Morris Acquisition Center, Natick, Massachusetts

Product/NSN: Skilcraft Toner Cartridge

7510-00-NIB-0633 (New—compatible with HP Part No. 92298A)

7510-00-NIB-0641 (New—compatible with HP Part No. C3903A)

7510-00-NIB-0642 (New—compatible with HP Part No. C3906A)

7510-00-NIB-0644 (New—compatible with HP Part No. C4092A)

NPA: Alabama Industries for the Blind, Talladega, Alabama

Contract Activity: Office Supplies & Paper Products Acquisition Center, New York, New York

Service

Service Type/Location: Janitorial/Grounds Maintenance

INS—Sector Headquarters

221 Aten Road, Imperial, California

NPA: Association for Retarded Citizens—Imperial Valley, El Centro, California

Contract Activity: Department of Homeland Security, Laguna Niguel, California

This action does not affect current contracts awarded prior to the effective date of this addition or options that may be exercised under those contracts.

Sheryl D. Kennerly,
Director, Information Management.

[FR Doc. 03-25796 Filed 10-9-03; 8:45 am]

BILLING CODE 6353-01-P